DEPARTMENT OF AGRICULTURE

Forest Service

Notice of Mineral County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393, as amended by H.R. 1424 January 3, 2008) the Lob National Forest's Mineral County Resource Advisory Committee will meet on February 23, March 30, April 13, and May 11, 2011 at 6 p.m. until 8:30 p.m. in Superior, Montana for a business meeting. The meeting is open to the public.

DATES: February 23, 2011, March 30, 2011, April 13, 2011, and May 11, 2011.

ADDRESSES: The meetings will be held at the Superior Ranger District Office, 209 W. Riverside Ave, Superior, MT 59872.

FOR FURTHER INFORMATION CONTACT: Sharon Sweeney, Designated Federal Official (DFO), District Ranger, Superior Ranger District, Lob National Forest at (406) 822-4233.

SUPPLEMENTARY INFORMATION: Agenda topics for meetings include the presentation of new project proposals and selection of proposals. If the meeting location is changed, notice will be posted in local newspapers, including the Mineral Independent.

Dated: February 3, 2011.
Sharon Sweeney,
Designated Federal Official.

[FR Doc. 2011-2918 Filed 2-10-11; 8:45 am]

BILLING CODE 3410-11-M